DEPARTMENT OF HOUSING AND URBAN DEVELOPMENT

[Docket No. FR-5030-FA-22]

Announcement of Funding Awards for the Section 202 Supportive Housing for the Elderly Program, Fiscal Year 2006

AGENCY: Office of the Assistant Secretary for Housing—Federal Housing Commissioner, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the section 202 Supportive Housing for the Elderly Program. This announcement contains the names of the awardees and the amounts of the awards made available by HUD.

FOR FURTHER INFORMATION CONTACT: Mr. Willie Spearmon, Director, Office of Housing Assistance and Grant Administration, 451 Seventh Street, SW., Washington, DC 20410-8000; telephone (202) 708-3000 (this is not a toll-free number). Hearing- and speech-impaired persons may access this number via TTY by calling the Federal Relay Service toll-free at (800) 877-8339. For general information on this and other HUD programs, visit the HUD Web site at http://www.hud.gov.

SUPPLEMENTARY INFORMATION: The Section 202 Supportive Housing for the Elderly Program is authorized by section 202 of the Housing Act of 1959 (12 U.S.C. 1701q), as amended by section 801 of the Cranston-Gonzalez National Affordable Housing Act (Pub. L. 101-625; approved November 28, 1990); the Housing and Community Development Act of 1992 (Pub. L. 102-550; approved October 28, 1992); the Recessions Act (Pub. L. 104-19; enacted on July 27, 1995); the American Homeownership and Economic Opportunity Act of 2000 (Pub. L. 106-569; approved December 27, 2000); the Department of Housing and Urban Development Appropriations Act, 2006 (Pub. L. 109-115, approved November 30, 2005); and the governmentwide rescissions pursuant to the Department of Defense Appropriations Act, 2006 (Pub. L. 109-148; approved December 30, 2005). The competition was announced in the SuperNOFA published in the Federal Register on March 8, 2006 (71 FR 12009). Applications were rated and selected for funding on the basis of selection criteria contained in that Notice.

The Catalog of Federal Domestic Assistance number for this program is 14.157.

The section 202 program is the Department's primary program for providing affordable housing for the elderly that allows them to live independently with supportive services. Under this program, HUD provides funds to private non-profit organizations to develop supportive housing for the elderly. Funds are also provided to subsidize the expenses to operate the housing projects.

A total of $511,952,100 was awarded to 110 projects for 4,242 units nationwide. In accordance with section 102(a)(4)(C) of the Department of Housing and Urban Development Reform Act of 1989 (103 Stat. 1987, 42 U.S.C. 3545), the Department is publishing the grantees and amounts of the awards in Appendix A of this document.

Dated: December 1, 2006.
Brian Montgomery,
Assistant Secretary for Housing-Federal Housing Commissioner.

A—Funding Awards for the Section 202 Supportive Housing for the Elderly Program Fiscal Year 2006

Alabama

Bayou La Batre, AL

Non-Profit Sponsor: VOA Southeast, Inc.

Capital Advance: $1,556,000

Five-year rental subsidy: $174,900

Number of units: 20

Gadsden, AL

Non-Profit Sponsor: Baptist Health Services, Inc.

Capital Advance: $3,947,700

Five-year rental subsidy: $411,000

Number of units: 47

Arizona

Tucson, AZ

Non-Profit Sponsor: Catholic Community Services of Southern Arizona,

Co-Sponsor: Tucson Housing Foundation, Inc.

Capital Advance: $4,678,100

Five-year rental subsidy: $519,900

Number of units: 56

Tucson, AZ

Non-Profit Sponsor: Chicanos Por La Causa, Inc.

Capital Advance: $4,678,100

Five-year rental subsidy: $352,800

Number of units: 38

Arkansas

Jonesboro, AR

Non-Profit Sponsor: St. Bernard's Village, Inc.

Capital Advance: $1,417,300

Five-year rental subsidy: $162,600

Number of units: 20

Jonesboro, AR

Non-Profit Sponsor: St. Bernard's Village, Inc.

Capital Advance: $1,417,300

Five-year rental subsidy: $162,600

Number of units: 20

Pine Bluff, AR

Non-Profit Sponsor: First Trinity Church of God in Christ

Capital Advance: $1,133,800

Five-year rental subsidy: $130,200

Number of Units: 16

California

Clearlake Oaks, CA

Non-Profit Sponsor: ESKATON Properties, Inc.

Capital Advance: $1,122,800

Five-year rental subsidy: $130,500

Number of Units: 10

Hayward, CA

Non-Profit Sponsor: Eden Housing, Inc.

Capital Advance: $8,117,500

Five-year rental subsidy: $991,200

Number of Units: 60

Montclair, CA

Non-Profit Sponsor: Southern California Housing Development Corp

Capital Advance: $10,604,000

Five-year rental subsidy: $1,231,200

Number of Units: 85

Petaluma, CA

Non-Profit Sponsor: Petaluma Ecumenical Properties

Capital Advance: $6,095,400

Five-year rental subsidy: $739,200

Number of Units: 45

Riverside, CA

Non-Profit Sponsor: TELACU

Capital Advance: $9,359,700

Five-year rental subsidy: $1,084,800

Number of Units: 75

Roseville, CA

Non-Profit Sponsor: ESKATON Properties, Inc.

Capital Advance: $5,818,100

Five-year rental subsidy: $567,300

Number of Units: 49

San Bernardino, CA

Non-Profit Sponsor: TELACU

Capital Advance: $11,226,200

Five-year rental subsidy: $1,304,700

Number of Units: 90

San Francisco, CA

Non-Profit Sponsor: BRIDGE Housing Corporation

Capital Advance: $9,735,200

Five-year rental subsidy: $1,192,800

Number of Units: 72

Colorado

Longmont, CO

Non-Profit Sponsor: Longmont Housing Development Corporation

Capital Advance: $5,884,200

Five-year rental subsidy: $492,300

Number of Units: 50

Montrose, CO

Non-Profit Sponsor: VOA Natl Ser

Capital Advance: $3,358,400

Five-year rental subsidy: $261,300

Number of Units: 27

Pagosa Springs, CO

Non-Profit Sponsor: Hsg Sol for the SW

Capital Advance: $2,515,600

Five-year rental subsidy: $190,800

Number of Units: 20

Connecticut

Hartford, CT

Non-Profit Sponsor: Volunteers of America National Services

Capital Advance: $3,129,600

Five-year rental subsidy: $282,000

Number of Units: 23

New Britain, CT

Non-Profit Sponsor: Mercy Housing, Inc.

Co-Sponsor: Daughters of Mary of the Immaculate Conception

Capital Advance: $5,661,900

Five-year rental subsidy: $538,200

Number of Units: 42

Delaware

Dover, DE

Non-Profit Sponsor: Martin Luther Fnd of Dover

Capital Advance: $4,313,800

Five-year rental subsidy: $418,200

Number of Units: 32

Florida

Miami, FL

Non-Profit Sponsor: Archdiocese of Miami

Capital Advance: $11,309,200

Five-year rental subsidy: $769,800

Number of Units: 84

Miami Beach, FL

Non-Profit Sponsor: Miami Beach CDC

Capital Advance: $4,853,000

Five-year rental subsidy: $333,900

Number of Units: 36

Plant City, FL

Non-Profit Sponsor: Diocese of St. Petersburg

Co-Sponsor: Catholic Charities

Capital Advance: $8,109,100

Five-year rental subsidy: $557,100

Number of Units: 68

Georgia

Atlanta, GA

Non-Profit Sponsor: Salem Baptist Church of Atlanta, Inc.

Capital Advance: $4,780,100

Five-year rental subsidy: $492,000

Number of Units: 56

Atlanta, GA

Non-Profit Sponsor: Providence Missionary Baptist Ch

Capital Advance: $3,929,800

Five-year rental subsidy: $402,600

Number of Units: 46

Valdosta, GA

Non-Profit Sponsor: Valdosta Deliverance Evangelistic Ctr

Capital Advance: $2,438,200

Five-year rental subsidy: $268,500

Number of Units: 30

Illinois

East St. Louis, IL

Non-Profit Sponsor: Ascension Devl

Co-Sponsor: St Andrews Resources for Seniors

Capital Advance: $5,963,600

Five-year rental subsidy: $602,700

Number of Units: 54

Freeport, IL

Non-Profit Sponsor: Accessible Space Inc

Capital Advance: $2,600,000

Five-year rental subsidy: $250,200

Number of Units: 23

Lemont, IL

Non-Profit Sponsor: Cath Char Hsg Devl

Capital Advance: $10,919,300

Five-year rental subsidy: $921,300

Number of Units: 81

Taylorville, IL

Non-Profit Sponsor: Luth Soc Ser of Illinois

Capital Advance: $2,385,000

Five-year rental subsidy: $261,600

Number of Units: 23

Indiana

Marion, IN

Non-Profit Sponsor: Community Reinvestment foundation, Inc.

Capital Advance: $1,733,800

Five-year rental subsidy: $192,000

Number of Units: 19

Merrillville, IN

Non-Profit Sponsor: AHEPA National Housing Corporation

Capital Advance: $5,081,200

Five-year rental subsidy: $505,200

Number of Units: 50

Iowa

Marion, IA

Non-Profit Sponsor: Marion Churches Senior Living Community Foundation

Capital Advance: $2,696,100

Five-year rental subsidy: $175,200

Number of Units: 20

Kansas

Wichita, KS

Non-Profit Sponsor: Mennonite Hsg Rehabilitation Srvcs, Inc.

Capital Advance: $4,244,300

Five-year rental subsidy: $546,300

Number of Units: 54

Kentucky

Barbourville, KY

Non-Profit Sponsor: KY Communities Economic Opportunity Council Inc

Capital Advance: $1,734,400

Five-year rental subsidy: $189,900

Number of Units: 20

Lexington, KY

Non-Profit Sponsor: Christian Benevolent Outreach, Inc.

Capital Advance: $3,810,900

Five-year rental subsidy: $398,700

Number of Units: 42

Russellville, KY

Non-Profit Sponsor: Baptist Homes Inc

Capital Advance: $1,814,700

Five-year rental subsidy: $189,900

Number of Units: 20

Louisiana

Arcadia, LA

Non-Profit Sponsor: Macon Ridge Comm Dev Corp

Capital Advance: $1,063,000

Five-year rental subsidy: $113,700

Number of Units: 14

Houma, LA

Non-Profit Sponsor: Terrebonne Council on Aging, Inc.

Capital Advance: $3,980,800

Five-year rental subsidy: $415,200

Number of Units: 50

Iowa, LA

Non-Profit Sponsor: Calcasieu Council on Aging

Capital Advance: $1,013,700

Five-year rental subsidy: $110,100

Number of Units: 14

Opelousas, LA

Non-Profit Sponsor: Diocese of Lafayette

Capital Advance: $1,105,200

Five-year rental subsidy: $110,100

Number of Units: 14

Maryland

Chillum, MD

Non-Profit Sponsor: Victory Housing Inc

Capital Advance: $5,708,900

Five-year rental subsidy: $671,700

Number of Units: 60

Odenton, MD

Non-Profit Sponsor: Associated Catholic Charities

Capital Advance: $5,557,300

Five-year rental subsidy: $692,700

Number of Units: 63

Massachusetts

Ayer, MA

Non-Profit Sponsor: Montachusetts Home Care Corporation

Capital Advance: $2,801,900

Five-year rental subsidy: $297,000

Number of Units: 22

Franklin, MA

Non-Profit Sponsor: The Community Builders, Inc.

Co-Sponsor: Franklin Federated Church

Capital Advance: $6,662,500

Five-year rental subsidy: $707,100

Number of Units: 50

Roxbury, MA

Non-Profit Sponsor: Action for Boston Community Development

Capital Advance: $5,330,000

Five-year rental subsidy: $565,800

Number of Units: 40

Somerville, MA

Non-Profit Sponsor: Visiting Nurse Foundation, Inc.

Capital Advance: $4,130,800

Five-year rental subsidy: $438,600

Number of Units: 31

Michigan

Detroit, MI

Non-Profit Sponsor: Presbyterian Villages of Michigan

Capital Advance: $5,175,900

Five-year rental subsidy: $509,700

Number of Units: 46

Detroit, MI

Non-Profit Sponsor: Lutheran Social Services of Michigan

Capital Advance: $5,175,900

Five-year rental subsidy: $509,700

Number of Units: 46

Minnesota

Albert Lea, MN

Non-Profit Sponsor: Accessible Space

Capital Advance: $2,334,500

Five-year rental subsidy: $242,100

Number of Units: 23

Mora, MN

Non-Profit Sponsor: Horizon Health Inc

Co-Sponsor: Living Solutions

Capital Advance: $2,231,000

Five-year rental subsidy: $242,100

Number of Units: 23

Wyoming, MN

Non-Profit Sponsor: Ebenezer Society

Capital Advance: $3,415,500

Five-year rental subsidy: $340,800

Number of Units: 32

Missouri

Independence, MO

Non-Profit Sponsor: Community of Christ

Capital Advance: $5,228,500

Five-year rental subsidy: $546,300

Number of Units: 54

O'Fallon, MO

Non-Profit Sponsor: Cardinal Ritter Sr Svcs

Capital Advance: $4,645,600

Five-year rental subsidy: $434,700

Number of Units: 40

Nebraska

Papillion, NE

Non-Profit Sponsor: Immanuel Health Sys

Capital Advance: $1,813,700

Five-year rental subsidy: $185,700

Number of Units: 20

Nevada

Reno, NV

Non-Profit Sponsor: Volunteers of America Nat'l Svcs

Capital Advance: $7,493,100

Five-year rental subsidy: $639,000

Number of Units: 60

New Hampshire

Pembroke, NH

Non-Profit Sponsor: CAP Belknap-Marrimack Counties

Capital Advance: $2,963,500

Five-year rental subsidy: $247,500

Number of Units: 23

New Jersey

Leonia, NJ

Non-Profit Sponsor: Leonia Retirement Hsg Corp

Capital Advance: $3,774,600

Five-year rental subsidy: $505,200

Number of Units: 28

Midland Park, NJ

Non-Profit Sponsor: Cath Char of Archdiocese of Newark

Co-Sponsor: Domus Corp

Capital Advance: $10,813,700

Five-year rental subsidy: $1,425,300

Number of Units: 80

New Mexico

Carlsbad, NM

Non-Profit Sponsor: Eastern Plains Housing Dev. Corp.

Capital Advance: $1,619,400

Five-year rental subsidy: $213,600

Number of Units: 24

New York

Amsterdam, NY

Non-Profit Sponsor: Maranatha Human Services

Capital Advance: $2,289,600

Five-year rental subsidy: $265,500

Number of Units: 24

Astoria, NY

Non-Profit Sponsor: Hanac, INC.

Capital Advance: $11,501,600

Five-year rental subsidy: $1,938,300

Number of Units: 94

Briarwood, NY

Non-Profit Sponsor: The Silvercrest Center for Nursing and Rehab

Capital Advance: $10,106,300

Five-year rental subsidy: $1,667,400

Number of Units: 81

Bronx, NY

Non-Profit Sponsor: Fordham Bedford Housing Corp.

Capital Advance: $10,355,200

Five-year rental subsidy: $1,709,100

Number of Units: 83

Bronx, NY

Non-Profit Sponsor: United Odd Fellow & Rebekah Home

Capital Advance: $9,110,800

Five-year rental subsidy: $1,500,600

Number of Units: 73

Henrietta, NY

Non-Profit Sponsor: Urban League of Rochester Economic Dev Corp

Capital Advance: $2,022,100

Five-year rental subsidy: $225,600

Number of Units: 20

Lewiston, NY

Non-Profit Sponsor: ITC Corporation

Capital Advance: $2,563,400

Five-year rental subsidy: $270,600

Number of Units: 24

Lockport, NY

Non-Profit Sponsor: People Inc

Capital Advance: $5,363,500

Five-year rental subsidy: $552,300

Number of Units: 50

Project Location: Van Buren, NY

Non-Profit Sponsor: Loretto Management Company

Capital Advance: $3,794,900

Five-year rental subsidy: $450,000

Number of Units: 40

North Carolina

Red Springs, NC

Non-Profit Sponsor: St. Joseph's of the Pines

Capital Advance: $3,053,900

Five-year rental subsidy: $265,800

Number of Units: 29

Roxboro, NC

Non-Profit Sponsor: Metropolitan Housing & CDC, Inc.

Capital Advance: $3,032,300

Five-year rental subsidy: $275,400

Number of Units: 29

Ohio

Cleveland, OH

Non-Profit Sponsor: Kappa Alpha Psi Fraternity House of Cleve., OH Inc

Capital Advance: $3,447,100

Five-year rental subsidy: $408,000

Number of Units: 37

Columbus, OH

Non-Profit Sponsor: National Church Residences

Capital Advance: $3,565,600

Five-year rental subsidy: $391,800

Number of Units: 40

Frankfort, OH

Non-Profit Sponsor: Housing Service Alliance

Co-Sponsor: Community Action Comm. of Fayette Co.

Capital Advance: $1,338,000

Five-year rental subsidy: $150,900

Number of Units: 15

Kettering, OH

Non-Profit Sponsor: Franklin Foundation

Capital Advance: $2,135,200

Five-year rental subsidy: $234,000

Number of Units: 24

Lebanon, OH

Non-Profit Sponsor: Warren County Community Services, Inc.

Capital Advance: $2,768,700

Five-year rental subsidy: $305,400

Number of Units: 30

Harbor, OH

Non-Profit Sponsor: Lutheran Homes Society Inc

Capital Advance: $1,118,000

Five-year rental subsidy: $136,200

Number of Units: 12

West Union, OH

Non-Profit Sponsor: Adams-Brown Counties Economic Opp

Capital Advance: $450,900

Five-year rental subsidy: $51,000

Number of Units: 5

Willoughby, OH

Non-Profit Sponsor: Lithuanian Center Inc

Capital Advance: $3,899,000

Five-year rental subsidy: $453,600

Number of Units: 40

Oklahoma

Antlers, OK

Non-Profit Sponsor: Little Dixie Community Action Agency, Inc.

Capital Advance: $1,189,300

Five-year rental subsidy: $135,300

Number of Units: 16

Broken Arrow, OK

Non-Profit Sponsor: Volunteers of America of Oklahoma, Inc.

Capital Advance: $2,972,100

Five-year rental subsidy: $333,300

Number of Units: 38

Durant, OK

Non-Profit Sponsor: Choctaw Hope Development Corporation

Capital Advance: $1,204,600

Five-year rental subsidy: $135,300

Number of Units: 16

Hugo, OK

Non-Profit Sponsor: Choctaw Hope Development Corp.

Capital Advance: $1,204,600

Five-year rental subsidy: $135,300

Number of Units: 16

Oregon

Lake Oswego, OR

Non-Profit Sponsor: Northwest Housing Alternatives, Inc

Co-Sponsor: Lake Grove Presbyterian Church

Capital Advance: $4,688,800

Five-year rental subsidy: $432,600

Number of Units: 45

Springfield, OR

Non-Profit Sponsor: St. Vincent de Paul Society of Lane County

Capital Advance: $5,181,800

Five-year rental subsidy: $531,000

Number of Units: 55

Pennsylvania

Jamestown, PA

Non-Profit Sponsor: Luth Ser Soc of Western PA

Capital Advance: $3,149,800

Five-year rental subsidy: $276,900

Number of Units: 27

Lansford, PA

Non-Profit Sponsor: Cath Senior Hsg & Health Care Servs Inc

Capital Advance: $2,291,700

Five-year rental subsidy: $240,300

Number of Units: 17

McKean, PA

Non-Profit Sponsor: HANDS Inc

Capital Advance: $2,657,700

Five-year rental subsidy: $225,600

Number of Units: 22

Philadelphia, PA

Non-Profit Sponsor: Haven Peniel Un Meth Ch

Co-Sponsor: No Co Conservancy, Inc

Capital Advance: $7,443,500

Five-year rental subsidy: $763,200

Number of Units: 55

West Grove, PA

Non-Profit Sponsor: Luther Fnd of So Chester Co, Inc

Capital Advance: $5,931,500

Five-year rental subsidy: $621,900

Number of Units: 44

Puerto Rico

San Juan, PR

Non-Profit Sponsor: Grace English Ev Luth Congregation Inc

Capital Advance: $2,893,300

Five-year rental subsidy: $253,500

Number of Units: 29

Rhode Island

Portsmouth, RI

Non-Profit Sponsor: Coastal Housing Corporation

Capital Advance: $2,319,200

Five-year rental subsidy: $237,300

Number of Units: 18

South Carolina

Columbia, SC

Non-Profit Sponsor: AHEPA National Housing Corporation

Capital Advance: $4,726,500

Five-year rental subsidy: $375,900

Number of Units: 43

Holly Hill, SC

Non-Profit Sponsor: Orangeburg County Council on Aging

Capital Advance: $1,260,700

Five-year rental subsidy: $105,000

Number of Units: 12

Spartanburg, SC

Non-Profit Sponsor: Upstate Homeless Coalition of SC

Capital Advance: $4,474,900

Five-year rental subsidy: $375,900

Number of Units: 43

Tennessee

Cleveland, TN

Non-Profit Sponsor: Douglas Cherokee Economic Authority, Inc.

Capital Advance: $1,704,700

Five-year rental subsidy: $174,900

Number of Units: 20

Memphis, TN

Non-Profit Sponsor: United Church Homes, Inc.

Capital Advance: $3,878,300

Five-year rental subsidy: $384,600

Number of Units: 43

Sparta, TN

Non-Profit Sponsor: Douglas Cherokee Economic Authority

Capital Advance: $1,130,800

Five-year rental subsidy: $117,900

Number of Units: 14

Texas

Georgetown, TX

Non-Profit Sponsor: United Meth. Ch. Wesleyan Home

Capital Advance: $1,753,000

Five-year rental subsidy: $200,400

Number of Units: 23

Houston, TX

Non-Profit Sponsor: Pilgrim Senior Citizens Hsg Dev.

Capital Advance: $4,666,400

Five-year rental subsidy: $565,500

Number of Units: 60

La Porte, TX

Non-Profit Sponsor: Methodist Retirement Communities

Capital Advance: $4,744,100

Five-year rental subsidy: $575,100

Number of Units: 61

Odessa, TX

Non-Profit Sponsor: Christian Church Homes of N. CA.

Capital Advance: $2,162,100

Five-year rental subsidy: $274,500

Number of Units: 30

Tyler, TX

Non-Profit Sponsor: NE Texas Disciples Homes, Inc.

Capital Advance: $4,036,300

Five-year rental subsidy: $474,600

Number of Units: 51

Vermont

Essex, VT

Non-Profit Sponsor: Cathedral Square Corporation

Capital Advance: $5,392,200

Five-year rental subsidy: $431,400

Number of Units: 40

Newport, VT

Non-Profit Sponsor: Gilman Housing Trust, Inc.

Capital Advance: $1,617,600

Five-year rental subsidy: $129,600

Number of Units: 12

Virginia

Dublin, VA

Non-Profit Sponsor: Metropolitan Housing and CDC, Inc.

Capital Advance: $4,886,300

Five-year rental subsidy: $570,300

Number of Units: 58

Washington

Lake Stevens, WA

Non-Profit Sponsor: Senior Services of Snohomish County

Capital Advance: $5,046,000

Five-year rental subsidy: $444,000

Number of Units: 40

Seattle, WA

Non-Profit Sponsor: Low Income Housing Institute

Capital Advance: $5,761,300

Five-year rental subsidy: $536,100

Number of Units: 50

Wisconsin

Siren, WI

Non-Profit Sponsor: Catholic Charities Bureau Inc

Capital Advance: $1,442,400

Five-year rental subsidy: $144,300

Number of units: 14

[FR Doc. E6-21558 Filed 12-18-06; 8:45 am]

BILLING CODE 4210-67-P